FEDERAL COMMUNICATIONS COMMISSION

47 CFR Part 54

[WC Docket Nos. 10-90, 14-58; FCC 14-98]

Connect America Fund, ETC Annual Reports and Certifications

AGENCY: Federal Communications Commission.

ACTION: Final rule, correction.

SUMMARY: This document corrects errors in the supplementary information portion of a Federal Register document finalizing decisions to use, on a limited scale, Connect America funding for rural broadband experiments in price cap areas that will deploy new, robust broadband to consumers. The Commission will use these rural broadband experiments to explore how to structure the Phase II competitive bidding process in price cap areas and to gather valuable information about interest in deploying next generation networks in high-cost areas. The summary was published in the Federal Register on August 6, 2014.

DATES: Effective October 6, 2014.

FOR FURTHER INFORMATION CONTACT: Alexander Minard, Wireline Competition Bureau, (202) 418-7400.

SUPPLEMENTARY INFORMATION: This summary contains corrections to the supplementary information portion of a Federal Register summary, 79 FR 45705 (August 6, 2014). The full text of the Commission's Report and Order in WC Docket Nos. 10-90, 14-58; FCC 14-98, released on July 14, 2014 is available for public inspection during regular business hours in the FCC Reference Center, Room CY-A257, 445 12th Street SW., Washington, DC 20554.

In Final rule FR Doc. 2014-18328, published August 6, 2014 (79 FR 45705), make the following corrections.

1. On page 45711, in the first column, in paragraph 44, third and fourth lines, replace “eligible locations determined by the model” with “funded locations and extremely high-cost locations.”

2. On page 45726, in the first column, in paragraph 155, eleventh and twelfth lines, replace “eligible locations determined by the model” with “funded locations and extremely high-cost locations.”

Federal Communications Commission.
Marlene H. Dortch,
Secretary.

[FR Doc. 2014-23781 Filed 10-3-14; 8:45 am]

BILLING CODE 6712-01-P